DEPARTMENT OF HEALTH AND HUMAN SERVICES

Food and Drug Administration

[Docket No. FDA-2009-N-0671]

Cooperative Agreement to Support the Illinois Institute of Technology's National Center for Food Safety and Technology (U01)

AGENCY: Food and Drug Administration, HHS.

ACTION: Notice.

SUMMARY: The Food and Drug Administration (FDA) is announcing its intention to receive and consider a single source application for the award of a cooperative agreement in fiscal year 2009 (FY09) to the Illinois Institute of Technology (IIT) to support the National Center for Food Safety and Technology (NCFST). The estimated amount of support in FY09 will be for up to $7 million (direct plus indirect costs), with the possibility of 4 additional years of support for up to $28 million, subject to the availability of funds. This award will improve public health by continued support of an applied research, education, and outreach program related to the safety of food processing technologies and processed foods.

DATES: The application due date is June 28, 2009. The anticipated start date is September 2009. The opening date was May 28, 2009.

FOR FURTHER INFORMATION AND ADDITIONAL REQUIREMENTS CONTACT: For more information on this funding opportunity announcement (FOA) and to obtain detailed requirements, please refer to the full FOA located at http://www.cfsan.fda.gov/list.html.

SUPPLEMENTARY INFORMATION:

I. Funding Opportunity Description

Request for Application Number: RFA-FD-09-004

Catalog of Federal Domestic Assistance: 93.103

A. Background

FDA has supported the NCFST under five previously awarded cooperative agreements (53 FR 15736; 56 FR 46189; 59 FR 24703; 64 FR 39512; and 69 FR 25405). NCFST was established by IIT to bring together the food safety and technology expertise of academia, industry and FDA for the purpose of enhancing the safety of the food supply in the common goal of enhancing and improving the safety of the food for U.S. consumers. NCFST is structured so that representatives of participating organizations play a role in establishing policy and administrative procedures as well as identifying long- and short-term research needs. With this organizational structure, NCFST is able to build cooperative food safety programs on a foundation of knowledge about current industrial trends in food processing and packaging technologies, regulatory perspectives from public health organizations, and fundamental scientific expertise from academia.

B. Research Objectives

The FDA recognizes that food production and processing technology is rapidly changing, that globalization of the food supply is increasing, and that the number and nature of the hazards associated with foods are rapidly evolving. FDA intends to maintain and facilitate the further development of NCFST for the purpose of enhancing food safety to benefit the public. NCFST is uniquely positioned as a key component of FDA's food protection program. Specifically, through the center's science platforms, the research at NCFST focuses on the development and validation of food processing and packaging technologies for safety and quality; investigation and development of preventive technologies targeted to reduce or eliminate harmful chemical and microbial contamination of foods; and the effects of processing on the stability and safety of bioactive ingredients added to or naturally occurring in foods. Additionally, the development of an integrated collaborative food protection research/education/outreach program will provide fundamental food safety information, in the public domain, for use by all segments of the food science community in product and process development, regulatory activities, academic programs and consumer programs.

C. Eligibility Information

Competition is limited to the IIT. FDA believes that continued support of NCFST at IIT is appropriate because IIT is uniquely qualified to fulfill the objectives of the proposed cooperative agreement. IIT's Moffet Center, where NCFST is located, is a unique research facility which includes an industrial-size pilot plant and smaller pilot plants for food processing and packaging equipment, a pathogen containment pilot plant, a packaging laboratory, analytical laboratories, offices, containment facilities, classrooms, and support facilities which permit research from bench-top to industrial-scale. The industrial-size pilot plant is built to accommodate routine food processing and packaging research in a commercial atmosphere. The physical layout of the facility provides maximum versatility in the use and arrangement of equipment of both commercial and pilot size, and in the capability to simultaneously operate several different pieces of equipment without interference with each other. Additionally, NCFST has a BL3 pilot plant and laboratory as well as a select agent laboratory to conduct studies with C. botulinum and other selected agents. NCFST researchers have access to nutritional clinical facilities on the IIT campus for validating in humans how processing may impact the availability of bioactive ingredients added to or naturally occurring in foods.

II. Award Information/Funds Available

A. Award Amount

The estimated amount of funds available for support in FY 2009 will be for up to $7 million (direct plus indirect costs), with the possibility of 4 additional years of support for up to $28 million, subject to the availability of funds. Future year amounts will depend on annual appropriations and successful performance.

This award will be funded based on the quality (e.g., how well the grantee responds to the RFA (request for application) requirements) of the application received and is subject to availability of Federal funds to support the project. In addition, if a cooperative agreement is awarded, the grantee will be informed of any additional documentation that should be submitted to FDA. This cooperative agreement program requires that the applicant substantially share in the project costs if an award is made.

FDA grants policies as described in the DHHS (Department of Health and Human Services) Policy Statement, http://www.hhs.gov/grantsnet/adminis/gpd/index.htm, will apply to the applications submitted and awards made in response to this FOA.

B. Length of Support

The award will provide 1 year of support and include future recommended support for 4 additional years, contingent upon satisfactory performance in the achievement of project and program reporting objectives during the preceding year and the availability of Federal fiscal year appropriations.

III. How to Submit a Paper Application

To submit a paper application in response to this FOA, applicants should first review the full announcement located at http://www.cfsan.fda.gov/list.html. Persons interested in applying for a grant may obtain an a copy of the PHS 398 application at http://grants.nih.gov/grants/forms.html

For paper submissions, the following steps are required:

• Step 1: Obtain a DUNS Number

• Step 2: Register with Central Contractor Registration (CCR)

Information on the process necessary to obtain DUNS and register in CCR can be found at http://www07.grants.gov/applicants/organization_registration.jsp.

Submit one (1) original signed copy of the application to: Gladys M. Bohler, Food and Drug Administration, Division of Acquisition Support and Grants, 5630 Fishers Lane, rm. 2105 (HFA-500), Rockville, MD 20857, 301-827-7168, FAX: 301-827-7101, email: gladys.melendez-bohler@fda.hhs.gov.

Submit five (5) copies of the paper application to: Donald L. Zink, Food and Drug Administration, Center for Food Safety and Applied Nutrition (HFS-006), 5100 Paint Branch Pkwy., College Park, MD 20740, 301-436-2290, email: donald.zink@fda.hhs.gov.

Dated: May 27, 2009.
Jeffrey Shuren,
Associate Commissioner for Policy and Planning.

[FR Doc. E9-12798 Filed 6-1-09; 8:45 am]

BILLING CODE 4160-01-S